DEPARTMENT OF ENERGY

Federal Energy Regulatory Commission

[Project No. 12486-008]

Twin Lakes Canal Company; Notice of Application Accepted for Filing, Soliciting Motions To Intervene and Protests, Ready for Environmental Analysis, and Soliciting Comments, Recommendations, Preliminary Terms and Conditions, and Preliminary Fishway Prescriptions

Take notice that the following hydroelectric application has been filed with the Commission and is available for public inspection.

a. Type of Application: Original Major License.

b. Project No.: 12486-008.

c. Date Filed: November 27, 2013.

d. Applicant: Twin Lakes Canal Company (Twin Lakes).

e. Name of Project: Bear River Narrows Hydroelectric Project.

f. Location: The proposed project would be located on the Bear River, near the city of Preston, in Franklin County, Idaho. The project would occupy 243 acres of federal land managed by the Bureau of Land Management.

g. Filed Pursuant to: Federal Power Act, 16 U.S.C. 791(a)-825(r).

h. Applicant Contact: Nick E. Josten, Geosense, 2742 Saint Charles Avenue, Idaho Falls, ID 83404, (208) 528-6152.

i. FERC Contact: Shana Murray at shana.murray@ferc.gov or (202) 502-8333.

j. Deadline for filing comments, recommendations, terms and conditions, and prescriptions: 60 days from the issuance date of this notice; reply comments are due 105 days from the issuance date of this notice.

All documents may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and five copies to: Kimberly D. Bose, Secretary, Federal Energy Regulatory Commission, 888 First Street NE., Washington, DC 20426.

The Commission's Rules of Practice and Procedures require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. The proposed project facilities include: (1) A new 109-foot-high roller compacted concrete dam and spillway creating a new 4.5-mile-long reservoir with a gross storage capacity of 12,467 acre feet; (2) a 48-foot-long, 16-foot-wide, and 20-foot-high concrete intake structure near the upstream toe of the dam; (3) a 14-foot-diameter, 600-foot-long steel penstock; (3) an 80-foot-long, 52-foot-wide, and 24-foot-high powerhouse containing two, 5-megawatt vertical Francis turbines with a combined maximum hydraulic capacity of 1,400 cubic feet per second (cfs); (4) a 0.74-mile, 46-kilovolt transmission line connecting a proposed substation near the base of the powerhouse to an existing, PacifiCorp-owned transmission line; and (5) appurtenant facilities.

Except for irrigation withdrawals during dry years, Twin Lakes proposes to operate in the project run-of-river, with daily releases from the new reservoir matching releases from the upstream Oneida Project (FERC No. 20). During dry water years, Twin Lakes proposes to release additional water for irrigation purposes but maintain a minimum flow downstream of the proposed project equal to the minimum flow requirement at the upstream Oneida Project (a year-round minimum flow of 250 cfs plus 1 cfs for leakage or inflow into Oneida reservoir, whichever is less). Twin Lakes estimates that the average annual generation would be about 48,531 megawatt-hours.

m. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

Register online at http://www.ferc.gov/docs-filing/esubscription.asp to be notified via email of new filings and issuances related to this or other pending projects. For assistance, contact FERC Online Support.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “COMMENTS”, “REPLY COMMENTS”, “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b), and 385.2010.

n. Public notice of the filing of the initial development application, which has already been given, established the due date for filing competing applications or notices of intent. Under the Commission's regulations, any competing development application must be filed in response to and in compliance with public notice of the initial development application. No competing applications or notices of intent may be filed in response to this notice.

o. Procedural Schedule:

The application will be processed according to the following revised Hydro Licensing Schedule. Revisions to the schedule may be made as appropriate.

“
Milestone | Target date
Filing of recommendations, preliminary terms and conditions, and preliminary fishway prescriptions | December 2014.
Commission issues Draft EIS | June 2015.
Comments on Draft EIS | August 2015.
Modified Terms and Conditions | October 2015.
Commission Issues Final EIS | January 2016.

p. A license applicant must file no later than 60 days following the date of issuance of the notice of acceptance and ready for environmental analysis provided for in 5.22: (1) A copy of the water quality certification; (2) a copy of the request for certification, including proof of the date on which the certifying agency received the request; or (3) evidence of waiver of water quality certification.

Include the following paragraphs for original licenses only:

r. Any qualified applicant desiring to file a competing application must submit to the Commission, on or before the specified intervention deadline date, a competing development application, or a notice of intent to file such an application. Submission of a timely notice of intent allows an interested person to file the competing development application no later than 120 days after the specified intervention deadline date. Applications for preliminary permits will not be accepted in response to this notice.

A notice of intent must specify the exact name, business address, and telephone number of the prospective applicant, and must include an unequivocal statement of intent to submit a development application. A notice of intent must be served on the applicant(s) named in this public notice.

Dated: October 17, 2014.
Kimberly D. Bose,
Secretary.

[FR Doc. 2014-25329 Filed 10-23-14; 8:45 am]

BILLING CODE 6717-01-P